DEPARTMENT OF HEALTH AND HUMAN SERVICES

Centers for Disease Control and Prevention

[30Day-11-0406]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

State and Local Area Integrated Telephone Survey (SLAITS), (OMB No. 0920-0406, Expiration 04/30/2011)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This revision is to notify the public of a request to continue the SLAITS mechanism for the 2011 to 2014 survey period. A three year clearance is requested.

SLAITS is an integrated and coordinated survey system that has been conducted since 1997, in accordance with the 1995 initiative to increase the integration of surveys within DHHS. It is designed to collect needed health and well-being data at the national, state, and local levels. Using the large sampling frame of the ongoing National Immunization Survey (NIS) and Computer Assisted Telephone Interviewing (CATI), and when necessary independent samples, mail, and Internet modes to support data collection activities, SLAITS has quickly collected and produced household and person-level data to monitor health-related areas. Questionnaire content is drawn from existing surveys within DHHS and other Federal agencies, or developed specifically to meet project sponsor needs.

Examples of topical areas include infant, child, adolescent, parent, and family health, well-being, and knowledge, attitude, and behaviors; children with special health care needs (CSHCN); functioning; life course and social determinants of health; developmental delays and disabilities; acute and chronic conditions; immunizations; access to and use of health care; program participation; adoption; and changes in health insurance coverage and experiences.

Users of SLAITS data include, but are not limited to, Congressional offices, Federal agencies, state and local governments, schools of public health, colleges and universities, private industry, nonprofit foundations, professional associations, clinicians, researchers, administrators, advocates, and health planners, to evaluate content and/or programs. SLAITS data continue to be heavily used by Federal and state Maternal and Child Health Bureau Directors to evaluate programs and service needs. Several SLAITS modules provided data for multiple Congressionally-mandated reports on healthcare disparities and quality; at least one report to Congress on health insurance coverage among children; and reports of the National Academy of Sciences. Within DHHS, the Office of the Assistant Secretary for Planning and Evaluation and the Administration for Children and Families used SLAITS to collect data for the first nationally representative survey of adoptive families across adoption types for children with and without special health care needs, and to assess their post-adoption service use and unmet needs.

There is no cost to respondents other than their time to participate. The total estimated annualized burden hours are 194,675.

Estimated Annualized Burden Hours
Respondents | Number of respondents | Number of responses per respondent | Average burden per response (in hours)
Household screening | 1,800,000 | 1 | 2/60
Household interview | 306,000 | 1 | 25/60
Pilot work, pre-testing, and planning activities | 12,300 | 1 | 35/60

Dated: March 9, 2011.
Carol E. Walker,
Acting Reports Clearance Officer, Centers for Disease Control and Prevention.

[FR Doc. 2011-5920 Filed 3-14-11; 8:45 am]

BILLING CODE 4163-18-P